INTERNATIONAL TRADE COMMISSION

[Investigation Nos. 731-TA-986-987 (Third Review)]

Ferrovanadium From China and South Africa; Determination

On the basis of the record ¹ developed in the subject five-year reviews, the United States International Trade Commission (“Commission”) determines, pursuant to the Tariff Act of 1930 (“the Act”), that revocation of the antidumping duty orders on ferrovanadium from China and South Africa would be likely to lead to continuation or recurrence of material injury to an industry in the United States within a reasonably foreseeable time.

¹ The record is defined in § 207.2(f) of the Commission's Rules of Practice and Procedure (19 CFR 207.2(f)).

Background

The Commission instituted these reviews on January 2, 2020 (85 FR 122) and determined on April 6, 2020 that it would conduct expedited reviews (85 FR 43258, July 16, 2020).

The Commission made these determinations pursuant to section 751(c) of the Act (19 U.S.C. 1675(c)). It completed and filed its determinations in these reviews on August 7, 2020. The views of the Commission are contained in USITC Publication 5099 (August 2020), entitled Ferrovanadium from China and South Africa: Investigation Nos. 731-TA-986-987 (Third Review).

By order of the Commission.
Issued: August 7, 2020.
Lisa Barton,
Secretary to the Commission.

[FR Doc. 2020-17681 Filed 8-12-20; 8:45 am]

BILLING CODE 7020-02-P